DEPARTMENT OF ENERGY

Federal Energy Regulatory Commission

[Docket No. CP17-101-000]

Notice of Availability of the Draft Environmental Impact Statement for the Proposed Transcontinental Gas Pipe Line Company, LLC, Northeast Supply Enhancement Project

The staff of the Federal Energy Regulatory Commission (FERC or Commission) has prepared a draft environmental impact statement (EIS) for the Northeast Supply Enhancement Project (NESE Project or Project) as proposed by Transcontinental Gas Pipe Line Company, LLC (Transco) in the above-referenced docket. Transco requests authorization to construct and operate 36.9 miles of onshore and offshore natural gas transmission pipeline loop ¹ and associated facilities, one new natural gas-fired compressor station, and modifications at one existing compressor station. The Project would provide about 400,000 dekatherms per day of natural gas to end use residential and commercial customers in the New York City area.

¹ A loop is a segment of pipe that is installed adjacent to an existing pipeline and connected to it at both ends. A loop generally allows more gas to move through the system.

The draft EIS assesses the potential environmental effects of the construction and operation of the Project in accordance with the requirements of the National Environmental Policy Act (NEPA). The FERC staff concludes that approval of the Project would result in some adverse environmental impacts; however, all impacts would be reduced to less-than-significant levels with the implementation of Transco's proposed mitigation and the additional measures recommended in the draft EIS.

The U.S. Army Corps of Engineers, U.S. Environmental Protection Agency, and the City of New York participated as cooperating agencies in the preparation of the draft EIS. Cooperating agencies have jurisdiction by law or special expertise with respect to resources potentially affected by the proposals and participate in the NEPA analysis. Although the cooperating agencies provide input to the conclusions and recommendations presented in the draft EIS, the agencies will each present its own conclusions and recommendations in its respective record of decision or determination for the Project.

The draft EIS addresses the potential environmental effects of the construction and operation of the following Project facilities:

• 10.2 miles of 42-inch-diameter pipeline loop in Lancaster County, Pennsylvania (the Quarryville Loop);

• 3.4 miles of 26-inch-diameter pipeline loop in Middlesex County, New Jersey (the Madison Loop);

• 23.5 miles of 26-inch-diameter pipeline loop in Middlesex and Monmouth Counties, New Jersey, and Queens and Richmond Counties, New York (the Raritan Bay Loop ²);

² Except for 0.2 mile of pipe in onshore Middlesex County, New Jersey, the Raritan Bay Loop would occur in offshore New Jersey waters (6.0 miles) and offshore New York waters (17.3 miles).

• modification of existing Compressor Station 200 in Chester County, Pennsylvania;

• construction of new Compressor Station 206 in Somerset County, New Jersey; and

• ancillary facilities (including cathodic protection systems, new and modified mainline valves with tie-in assemblies, new and modified launcher/receiver facilities, and facilities to connect the Raritan Bay Loop to the existing Rockaway Delivery Lateral at the Rockaway Transfer Point).

The FERC staff mailed copies of the draft EIS to federal, state, and local government representatives and agencies; elected officials; environmental and public interest groups; Native American tribes; potentially affected landowners and other interested individuals and groups; and newspapers and libraries in the Project area. Paper copy versions of this draft EIS were mailed to those specifically requesting them; all others received a CD version. In addition, the draft EIS is available for public viewing on the FERC's website (www.ferc.gov) using the eLibrary link. A limited number of copies are available for distribution and public inspection at: Federal Energy Regulatory Commission, Public Reference Room, 888 First Street NE, Room 2A, Washington, DC 20426, (202) 502-8371.

Any person wishing to comment on the draft EIS may do so. To ensure consideration of your comments on the proposal in the final EIS, it is important that the Commission receive your comments on or before May 14, 2018.

For your convenience, there are four methods you can use to submit your comments to the Commission. The Commission will provide equal consideration to all comments received, whether filed in written form or provided verbally. The Commission encourages electronic filing of comments and has expert staff available to assist you at (202) 502-8258 or FercOnlineSupport@ferc.gov. Please carefully follow these instructions so that your comments are properly recorded.

(1) You can file your comments electronically using the eComment feature on the Commission's website (www.ferc.gov) under the link to Documents and Filings. This is an easy method for submitting brief, text-only comments on a project;

(2) You can file your comments electronically by using the eFiling feature on the Commission's website (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the Project docket number (CP17-101-000) with your submission: Kimberly D. Bose, Secretary, Federal Energy Regulatory Commission, 888 First Street NE, Room 1A, Washington, DC 20426.

(4) In lieu of sending written or electronic comments, the Commission invites you to attend one of the public comment sessions its staff will conduct in the Project area to receive comments on the draft EIS, scheduled as follows:

Date and time | Location
Wednesday, April 25, 5:00 to 9:00 p.m | George Bush Senior Center, 1 Old Bridge Plaza, Old Bridge, NJ 08857, (732) 721-5600.
Thursday, April 26, 5:00 to 9:00 p.m | Best Western Gregory Hotel, 8315 4th Avenue, Brooklyn, NY 11209, (718) 238-3737.
Wednesday, May 2, 5:00 to 9:00 p.m | Franklin Township Community Center, 505 Demott Lane, Somerset, NJ 08873, (732) 873-1991.
Thursday, May 3, 5:00 to 9:00 p.m | Solanco High School, 585 Solanco Road, Quarryville, PA 17566, (717) 786-2151.

The primary goal of these comment sessions is to have you identify the specific environmental issues and concerns with the draft EIS. Individual verbal comments will be taken on a one-on-one basis with a court reporter. This format is designed to receive the maximum amount of verbal comments in a convenient way during the timeframe allotted.

Each comment session is scheduled from 5:00 p.m. to 9:00 p.m. Eastern Time Zone. You may arrive at any time after 5:00 p.m. There will not be a formal presentation by Commission staff when the session opens. The Commission staff will hand out numbers to those who wish to speak in the order of their arrival until 8:00 p.m. If no additional numbers have been handed out and all individuals who wish to provide comments have had an opportunity to do so, staff may conclude the session at 8:00 p.m.

Your verbal comments will be recorded by the court reporter (with FERC staff or representative present) and become part of the public record for this proceeding. Transcripts will be publicly available on FERC's eLibrary system (see below for instructions on using eLibrary). If a significant number of people are interested in providing verbal comments in the one-on-one settings, a time limit of 3 to 5 minutes may be implemented for each commenter.

It is important to note that written comments mailed to the Commission and those submitted electronically are reviewed by staff with the same scrutiny and consideration as the verbal comments given at the public sessions. Although there will not be a formal presentation, Commission staff will be available throughout the evening to answer your questions about the environmental review process.

Any person seeking to become a party to the proceeding must file a motion to intervene pursuant to Rule 214 of the Commission's Rules of Practice and Procedures (18 CFR part 385.214).³ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

³ See the previous discussion on the methods for filing comments.

Questions

Additional information about the Project is available from the Commission's Office of External Affairs, at (866) 208-FERC, or on the FERC website (www.ferc.gov) using the eLibrary link. Click on the eLibrary link, click on “General Search,” and enter the docket number excluding the last three digits in the Docket Number field (i.e., CP17-101). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: March 23, 2018.
Kimberly D. Bose,
Secretary.

[FR Doc. 2018-06410 Filed 3-29-18; 8:45 am]

BILLING CODE 6717-01-P